DEPARTMENT OF DEFENSE

Department of the Army; Corps of Engineers

Intent To Prepare a Draft Environmental Impact Statement for the Louisiana Coastal Area (LCA)—Louisiana, Mississippi River Hydrodynamic and Delta Management Study

AGENCY: Department of the Army, U.S. Army Corps of Engineers, DoD.

ACTION: Notice of intent.

SUMMARY: The U.S. Army Corps of Engineers (USACE) intends to prepare an environmental impact statement (EIS) for the Louisiana Coastal Area (LCA)—Louisiana, Mississippi River Hydrodynamic and Delta Management restoration study. This study will identify and evaluate a combination of large-scale management and restoration features to address the long-term sustainability of the lower Mississippi River Deltaic Plain. Hydrodynamic models and other forecast methods will be used to determine existing water and sediment resources in the Mississippi River available to restore and sustain delta growth in the Mississippi River Delta and assess benefits and impacts of large-scale strategies that balance the interests of ecosystem restoration, flood risk reduction, and navigation. This EIS will be tiered off of the November 2004, programmatic EIS for the Louisiana Coastal Area (LCA), Louisiana, Ecosystem Restoration Study (LCA Study). The record of decision for the programmatic EIS was signed on November 18, 2005. This notice announces the USACE's intent to host six (6) public scoping meetings.

DATES: Comments on the scope of the EIS will be accepted until close of business on May 4, 2012. Please refer to the “Scoping” section below for instructions on how to submit public comments, the dates of the upcoming public scoping meetings and other meeting information.

FOR FURTHER INFORMATION CONTACT: Questions concerning the draft EIS and scoping comments should be addressed to Dr. William P. Klein, Jr., CEMVN-PDN-CEP, P.O. Box 60267, New Orleans, LA 70160-0267; telephone: (504) 862-2540; fax: (504) 862-1583; or by email: william.p.klein.jr@usace.army.mil.

SUPPLEMENTARY INFORMATION:

1. Authority. The Mississippi River Hydrodynamic and Delta Management Study, identified as a large-scale, long-term restoration feature recommended for study in the 2004 LCA Study, is authorized to be studied under Section 7003 of the Water Resource Development Act (WRDA) 2007 (Pub. L. 110-114), as well as resolutions of the U.S. House of Representatives and Senate Committees on Public Works, dated April 19, 1967 and October 19, 1967, respectively.

2. Proposed Action. The Mississippi River Hydrodynamic and Delta Management Study is the first large-scale, long-term restoration assessment investigated under the LCA Program. Ecosystem restoration features that increase the deposition of Mississippi River sediment in shallow coastal areas and restore delta growth and wetland sustainability will be identified and evaluated. A series of hydrodynamic models will be used to evaluate Mississippi River sediment and water resources including: Hydraulics and the relationship of flow conditions to sediment transport, salinity intrusion, the flux of key nutrients, deposition and erosion, and the net results of these processes in river channel and distributary morphology over more than 300 miles of the river (Old River to the Gulf of Mexico). These models will be used for this study and future LCA Program studies and projects. Large-scale river diversions and outfall management measures that optimize the river sediment and freshwater resources to provide long-term restoration and sustainability of the Delta Plain, including the sediment-starved barrier shorelines, will be considered. Possible navigation alternative scenarios could include consideration of new navigation channels to the east or west of the current Mississippi River alignment. Navigation channel analysis would be limited to preliminary screening as any navigation channel re-alignment scenarios would require, at a minimum, re-scoping the present study.

The Mississippi River Hydrodynamic and Delta Management Study will evaluate potential benefits and impacts to both the natural and human environments. This study will provide methods for quantifying effects and developing large-scale management strategies and projects that balance the interests of ecosystem restoration, flood control, and navigation purposes for Louisiana and the Nation.

3. Public Involvement. Public involvement, an essential part of the National Environmental Policy Act (NEPA) process, is integral to assessing the environmental consequences of the proposed action and improving the quality of the environmental decision making. The public includes affected and interested Federal, state, and local agencies, Indian tribes, concerned citizens, stakeholders, and other interested parties. Public participation in the EIS process will be strongly encouraged, both formally and informally, to enhance the probability of a more technically accurate, economically feasible, and socially acceptable EIS. Public involvement will include, but is not limited to: Information dissemination; identification of problems, needs and opportunities; idea generation; public education; problem solving; providing feedback on proposals; evaluation of alternatives; public and scoping notices and meetings; public, stakeholder and advisory groups consultation and meetings; and making the EIS and supporting information readily available in conveniently located places, such as libraries and on the world wide web.

4. Scoping. Scoping, an early and open process for identifying the scope of significant issues related to the proposed action to be addressed in the EIS, will be used to: (a) Identify the affected public and agency concerns; (b) facilitate an efficient EIS preparation process; (c) define the issues and alternatives that will be examined in detail in the EIS; and (d) save time in the overall process by helping to ensure that the draft EIS adequately addresses relevant issues. The USACE will host six (6) NEPA public scoping meetings at the following locations on the dates indicated between 6 p.m. and 8 p.m.:

Tuesday, April 10, 2012: Louisiana Department of Natural Resources, LaBelle Room-1st Floor, 617 North 3rd Street Baton Rouge, LA.

Thursday, April 12, 2012: Port of New Orleans, Auditorium 1st Floor, 1350 Port Of New Orleans Place New Orleans, LA.

Tuesday, April 17, 2012: Larose Civic Center, 307 East 5th Street, Cuttoff, LA.

Thursday, April 19, 2012: Boothville Elementary, #1 Oiler Drive Boothville, LA.

Tuesday, April 24, 2012: Waveland Civic Center, 335 Coleman Avenue Waveland, MS.

Thursday, April 26, 2012: St. Bernard Parish Council Chambers, 8201 W. Judge Perez Drive Chalmette, LA.

A Scoping Meeting Notice announcing the specific locations, driving directions, dates and times for scoping meetings is anticipated to be mailed to interested parties in March 2012.

5. Coordination. The USACE and the U.S. Fish and Wildlife Service (USFWS) have formally committed to work together to conserve, protect, and restore fish and wildlife resources while ensuring environmental sustainability of our Nation's water resources under the January 22, 2003, Partnership Agreement for Water Resources and Fish and Wildlife. The USFWS will provide a Fish and Wildlife Coordination Act Report. Coordination will be maintained with the USFWS and the National Marine Fisheries Service (NMFS) regarding threatened and endangered species under their respective jurisdictional responsibilities. Coordination will be maintained with the NMFS regarding essential fish habitat. Coordination will be maintained with the Natural Resources Conservation Service regarding prime and unique farmlands. The U.S. Department of Agriculture will be consulted regarding the “Swampbuster” provisions of the Food Security Act. Coordination will be maintained with the U.S. Environmental Protection Agency concerning compliance with Executive Order 12898, “Federal Action to Address Environmental Justice in Minority Populations and Low-Income Populations.” Coordination will be maintained with the Advisory Counsel on Historic Preservation and the State Historic Preservation Officer. The Louisiana Department of Natural Resources will be consulted regarding consistency with the Coastal Zone Management Act. The Louisiana Department of Wildlife and Fisheries will be consulted concerning potential impacts to Natural and Scenic Rivers.

6. Availability of Draft EIS. The earliest that the draft EIS will be available for public review would be in 2016. The draft EIS or a notice of availability will be distributed to affected Federal, state, and local agencies, Indian tribes, and other interested parties.

Dated: March 13, 2012.
Edward R. Fleming,
Colonel, U.S. Army, District Commander.

[FR Doc. 2012-7038 Filed 3-22-12; 8:45 am]

BILLING CODE 3720-58-P